DEPARTMENT OF THE INTERIOR

Fish and Wildlife Service

[FWS-HQ-NWRS-2020-N155; FXRS12630900000/FF09R81000; OMB Control Number 1018-New]

Agency Information Collection Activities; Submission to the Office of Management and Budget for Review and Approval; U.S. Fish and Wildlife Service Concessions

AGENCY: Fish and Wildlife Service, Interior.

ACTION: Notice of information collection; request for comment.

SUMMARY: In accordance with the Paperwork Reduction Act of 1995, we, the U.S. Fish and Wildlife Service (Service), are proposing a new information collection in use without an OMB Control Number.

DATES: Interested persons are invited to submit comments on or before February 3, 2021.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB/PERMA (JAO/3W), 5275 Leesburg Pike, Falls Church, VA 22041-3803 (mail); or by email to Info_Coll@fws.gov. Please reference OMB Control Number 1018—Concessions in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On June 1, 2020, we published in the Federal Register (85 FR 33193) a notice of our intent to request that OMB approve this information collection. In that notice, we solicited comments for 60 days, ending on July 31, 2020. We received one comment in response to that notice, but it did not address the information collection requirements. No response to that comment is required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Secretary of the Interior is authorized to ensure that we provide opportunities within the Service for compatible wildlife-dependent recreational uses across the National Wildlife Refuge System (System). Furthermore, the Secretary is authorized to award concessions contracts under the following Acts:

• The National Wildlife Refuge System Administration Act of 1966 (Administration Act, 16 U.S.C. 668dd-668ee), as amended by the National Wildlife Refuge System Improvement Act of 1997, authorizes the Secretary of the Interior to negotiate and award contracts and issue regulations to carry out the Act.

• The Refuge Recreation Act of 1962 (16 U.S.C. 460k-460k-3) allows the use of refuges for public recreation when such use is not inconsistent with or does not interfere with the primary purpose(s) of the refuge.

• The Refuge Revenue Sharing Act (16 U.S.C. 715s) authorizes the Secretary to grant privileges and collect revenues from leases for public accommodations or facilities established for the System.

Specifically, the Administration Act provides that, with respect to the Refuge System, it is the policy of the United States that—

a. Each refuge shall be managed to fulfill the mission of the System, as well as the specific purposes for which that refuge was established;

b. Compatible wildlife-dependent recreation is a legitimate and appropriate general public use of the System, directly related to the mission of the System and the purposes of many refuges, and which generally fosters refuge management and through which the American public can develop an appreciation for fish and wildlife;

c. Compatible wildlife-dependent recreational uses are the priority general public uses of the System and shall receive priority consideration in refuge planning and management; and

d. When the Secretary determines that a proposed wildlife-dependent recreational use is a compatible use within a refuge, that activity should be facilitated, subject to such restrictions or regulations as may be necessary, reasonable, and appropriate.

The Administration Act also provides that, in administering the Refuge System, the Secretary shall—

a. Recognize compatible wildlife-dependent recreational uses as the priority general public uses of the System, through which the American public can develop an appreciation for fish and wildlife;

b. Ensure that opportunities are provided within the System for compatible wildlife-dependent recreational uses;

c. Ensure that priority general public uses of the System receive enhanced consideration over other general public uses in planning and management within the System; and

d. Provide increased opportunities for families to experience compatible wildlife-dependent recreation, particularly opportunities for parents and their children to safely engage in traditional outdoor activities, such as fishing and hunting.

Private businesses and non-profit organization under contract to the Service provide recreational, educational, and interpretive enjoyment of our lands and waters by managing lodging, food, transportation, and supplies and equipment for the enjoyment of the visiting public. These services gross approximately $3,000,000 every year and provide jobs for more than 100 people annually.

The regulations at 50 CFR subpart F (§ 25.61) primarily implement the authorities governing public use facilities operated by concessionaires or cooperators under appropriate contact or legal agreement on national wildlife refuges where there is a demonstrated justified need for services or facilities, including but not limited to boat rentals, swimming facilities, conducted tours of special natural attractions, shelters, tables, trailer lots, food, lodging, and related service.

Service Manual chapters 630 FW 6-8 discuss the Service's current policy for concession management and provide guidance for permitting and administering concession operations on Service lands. We use concession contracts to assist us in providing wildlife-dependent recreation activities to the visiting public by using contracts between the Service and a private entity, where the private entity is allowed to charge a fee for services provided at a field station to the visiting public.

We collect information in a narrative (non-form) format. Details concerning the specific information required are contained in 50 CFR 25.61 and the recently updated Service Manual chapters available to the public on the Service's website at https://www.fws.gov/policy/manuals/part.cfm?series=600&seriestitle=LAND%20USE%20AND%20MANAGEMENT%20SERIES. The amount of information or degree of detail requested varies widely, depending upon the size and scope of the business opportunity. For example, a much greater amount of detailed information would be required for a multi-unit camping and food service operation than would be required for a small bait sales operation. We use the information provided by prospective concessionaires to objectively evaluate offers received for a particular business opportunity, assure adequate protection of refuge resources, and to determine which offeror will provide the best service to visitors.

Below are examples of types of information the Service collects from a potential or current concessionaire.

General Concessionaire Information

• Description of how the respondent will conduct operations to minimize disturbance to wildlife; protect refuge resources; and provide visitors with a high-quality, safe, and enjoyable visitor experience.

• Proposal to protect, conserve, and preserve resources of the refuge. The proposal must respond to specific resource management objectives and issues at the refuge and regarding the contract in question.

• Proposal to provide necessary and appropriate visitor services at reasonable rates. This proposal must respond to specific visitor service questions at the refuge and regarding the contract in question.

• Experience and related background of the offeror, including past performance and expertise of the offeror in providing the same or similar visitor services as those to be provided under the draft concession contract.

• Financial capability of the offeror to carry out its proposal. In particular, we require projected financials, including initial investments, startup expenses, income statement, operating assumptions, cash flow statement, recapture of investments, and all associated assumptions.

• The amount of the proposed minimum franchise fee and other forms of financial consideration.

Proposal for Concession Opportunity

• Offeror's transmittal letter, including the name and contact information of the entity offering a proposal to operate a concession contract.

• Business type of the offeror, such as corporation, limited liability company, partnership, etc.

• Business history information, including adverse history that could impact future operations under a concession contract.

• Credit report, so that we can understand the offeror's credit history and any risks of contracting with the entity.

• Proposed staffing/management operation information, including organization charts and delegations of authority, to ensure adequate staffing.

• Proof of indemnification, including public liability insurance that co-names the Government as co-insured.

Reporting Requirements

• Annual financial reports providing concessioner financial information, as required by each concession contract.

• Quarterly and annual progress reports to monitor performance.

• Inspections and inspection reports conducted in concert with the on-site concession manager.

Approval To Sell or Transfer Concession Operation

• Information to assess the transferee's ability to manage the business successfully and fulfill the terms of the concession contract, in order for the Regional Director to grant approval.

Recordkeeping Requirements

• In accordance with Service Manual chapter 630 FW 8.3, a concessioner (and any subconcessioner) must keep and make available to the Service records for the term of the concession contract.

Title of Collection: U.S. Fish and Wildlife Service Concessions.

OMB Control Number: 1018-New.

Form Number: None.

Type of Review: Existing collection in use without an OMB control number.

Respondents/Affected Public: Businesses and nonprofit organizations.

Respondent's Obligation: Required to obtain or retain a benefit.

Frequency of Collection: On occasion for proposals, amendments, and appeals; annually for financial reports; quarterly for progress reports; and ongoing for recordkeeping.

Total Estimated Annual Nonhour Burden Cost: $69,900 (associated with administrative overhead, as well as costs associated with the development of proposals in response to concessions opportunities).

Activity | Total annual responses | Completion time per response (hours) | Total annual burden hours *
General Concessionaire Information:
Inspection form | 80 | 3 | 240
Proposal for Concessions Opportunities:
Large Concessions | 6 | 40 | 240
Small Concessions | 3 | 16 | 48
Reporting Requirements:
Annual Financial Report | 10 | 16 | 160
Quarterly Progress Report | 12 | 4 | 48
Annual Progress Report | 10 | 16 | 160
Approval to Sell/Transfer A Concession Operation | 1 | 8 | 8
Recordkeeping Requirements:
Large Concessions | 5 | 40 | 200
Small Concessions | 5 | 20 | 100
Totals | 132 |  | 1,204

An agency may not conduct or sponsor and a person is not required to respond to a collection of information unless it displays a currently valid OMB control number.

The authority for this action is the Paperwork Reduction Act of 1995 (44 U.S.C. 3501 et seq.).

Dated: December 29, 2020.
Madonna Baucum,
Information Collection Clearance Officer, U.S. Fish and Wildlife Service.

[FR Doc. 2020-29074 Filed 12-31-20; 8:45 am]

BILLING CODE 4333-15-P